DEPARTMENT OF THE INTERIOR

Fish and Wildlife Service

[FWS-R9-EA-2011-N149; 97600-9792-0000-5D]

Sport Fishing and Boating Partnership Council

AGENCY: Fish and Wildlife Service, Interior.

ACTION: Notice of meeting.

SUMMARY: We, the U.S. Fish and Wildlife Service, announce a public meeting of the Sport Fishing and Boating Partnership Council (Council).

DATES: The meeting will be held on Wednesday, August 31, 2011, from 9 a.m. to 5 p.m. and Thursday, September 1, 2011, from 9 a.m. to 3 p.m. (Pacific time). Members of the public who wish to attend the meeting must notify Douglas Hobbs by August 22, 2011. For deadlines and directions on registering to attend, submitting written material, and giving an oral presentation, please see “Public Input” under SUPPLEMENTARY INFORMATION.

ADDRESSES: The meeting will be held at the Sheraton Fisherman's Wharf Hotel, 2500 Mason Street, San Francisco, CA 94133; (415) 362-5500 (phone).

FOR FURTHER INFORMATION CONTACT: Douglas Hobbs, Council Coordinator, 4401 North Fairfax Drive, Mailstop 3103-AEA, Arlington, VA 22203; telephone (703) 358-2336; fax (703) 358-2548; or Doug_Hobbs@fws.gov.

SUPPLEMENTARY INFORMATION: In accordance with the requirements of the Federal Advisory Committee Act, 5 U.S.C. App., we announce that the Sport Fishing and Boating Partnership Council will hold a meeting (see DATES).

Background

The Council was formed in January 1993 to advise the Secretary of the Interior, through the Director of the U.S. Fish and Wildlife Service, on nationally significant recreational fishing, boating, and aquatic resource conservation issues. The Council represents the interests of the public and private sectors of the sport fishing, boating, and conservation communities and is organized to enhance partnerships among industry, constituency groups, and government. The 18-member Council, appointed by the Secretary of the Interior, includes the Director of the Service and the president of the Association of Fish and Wildlife Agencies, who both serve in ex officio capacities. Other Council members are Directors from State agencies responsible for managing recreational fish and wildlife resources and individuals who represent the interests of saltwater and freshwater recreational fishing, recreational boating, the recreational fishing and boating industries, recreational fisheries resource conservation, Native American Tribes, aquatic resource outreach and education, and tourism. Background information on the Council is available at http://www.fws.gov/sfbpc.

Upcoming Meeting

The Council will convene to consider:

1. Progress in implementing the Council's assessment of the Fish and Wildlife Service Fisheries Program;

2. Progress in implementing the Council's assessment of the activities of the Recreational Boating and Fishing Foundation;

3. Issues related to implementation of the America's Great Outdoors Initiative;

4. Issues related to Marine Protected Areas and implementation of the National Ocean Policy;

5. Updates on activities of the Service's Wildlife and Sport Fish Restoration Program and Fisheries Program; and

6. Other Council business.

The final agenda will be posted on the Internet at http://www.fws.gov/sfbpc.

Public Input

If you wish to | You must contact Douglas Hobbs (see FOR FURTHER INFORMATION CONTACT) no later than
Attend the meeting | August 22, 2011.
Submit written information or questions before the meeting for the council to consider during the meeting | August 22, 2011.
Give an oral presentation during the meeting | August 17, 2011.

Attendance

In order to attend this meeting, you must register by close of business on the date above. Because entry to Federal buildings is restricted, all visitors are required to preregister to be admitted. Please submit your name, time of arrival, e-mail address, and phone number to Douglas Hobbs (see FOR FURTHER INFORMATION CONTACT).

Submitting Written Information or Questions

Interested members of the public may submit relevant information or questions for the Council to consider during the public meeting. Written statements must be received by the date under DATES, so that the information may be made available to the Council for their consideration prior to this meeting. Written statements must be supplied to the Council Coordinator in both of the following formats: One hard copy with original signature, and one electronic copy via e-mail (acceptable file formats are Adobe Acrobat PDF, WordPerfect, MS Word, MS PowerPoint, or rich text file).

Giving an Oral Presentation

Individuals or groups requesting to make an oral presentation at the meeting will be limited to 2 minutes per speaker, with no more than a total of 30 minutes for all speakers. Interested parties should contact Douglas Hobbs, Council Coordinator, in writing (preferably via e-mail; see FOR FURTHER INFORMATION CONTACT), to be placed on the public speaker list for this meeting. Nonregistered public speakers will not be considered during the meeting. Registered speakers who wish to expand upon their oral statements, or those who had wished to speak but could not be accommodated on the agenda, are invited to submit written statements to the Council after the meeting.

Meeting Minutes

Summary minutes of the conference will be maintained by the Council Coordinator at 4401 N. Fairfax Drive, MS- 3103-AEA, Arlington, VA 22203, and will be available for public inspection during regular business hours within 30 days following the meeting. Personal copies may be purchased for the cost of duplication.

Dated: July 28, 2011.
James J. Slack,
Acting Director.

[FR Doc. 2011-19871 Filed 8-4-11; 8:45 am]

BILLING CODE 4310-55-P